DEPARTMENT OF LABOR

Employment and Training Administration

[TA-W-64,647]

Trane US, Inc., Residential Systems Division, Tyler, TX; Notice of Affirmative Determination Regarding Application for Reconsideration

By application dated March 20, 2009, the International Union of Electronics, Electrical, Salaried Machine and Furniture Workers (IUE), AFL-CIO, Local 86782 requested administrative reconsideration of the negative determination regarding workers' eligibility to apply for Trade Adjustment Assistance (TAA) and Alternative Trade Adjustment Assistance (ATAA) applicable to workers and former workers of the subject firm. The determination was issued on February 13, 2009. The Notice of Determination was published in the Federal Register on March 3, 2009 (74 FR 9279).

The initial investigation resulted in a negative determination based on the finding that imports of air conditioning units did not contribute importantly to worker separations at the subject firm. The investigation revealed that the subject firm did not shift production of air conditioning units to foreign countries during the period under investigation.

In the request for reconsideration, the petitioner alleged that the workers of the subject firm manufactured components for air conditioners and that the subject firm shifted production of these components to Mexico during the relevant period. The petitioner also alleged that the subject firm has shifted production to China and that there was an increase in imports of air conditioning units from China.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 1st day of May 2009.
Elliott S. Kushner,
Certifying Officer, Division of Trade Adjustment Assistance.

[FR Doc. E9-11436 Filed 5-15-09; 8:45 am]

BILLING CODE 4510-FN-P